DEPARTMENT OF THE INTERIOR

Bureau of Land Management

[AZ-020-01-5410-11-A187; AZA-31581]

Notice of Receipt of Conveyance of Mineral Interest Application

AGENCY: Bureau of Land Management, Interior.

ACTION: Notice of Minerals Segregation.

SUMMARY: The private lands described in this notice aggregating approximately 950 acres, are segregated and made unavailable for filings under the general mining laws and the mineral leasing laws to determine their suitability for conveyance of the reserved mineral interest pursuant to section 209 of the Federal Land Policy and Management Act of October 21, 1976.

The mineral interest will be conveyed in whole or in part upon favorable mineral examination.

The purpose is to allow consolidation of surface and subsurface of minerals ownership where there are no known mineral values or in those instances where the reservation interferes with or precludes appropriate nonmineral development and such development is a more beneficial use of the land than the mineral development.

FOR FURTHER INFORMATION CONTACT: Vivian Titus, Land Law Examiner, Arizona State Office, 222 N. Central Ave., Phoenix, Arizona 85004 (602) 417-9598. Serial Number AZA-31581.

Gila and Salt River Base and Meridian, Maricopa County, Arizona

T. 8 N., R. 2 W.,

Sec. 20, NE¼, N½SE¼, N½SW¼SE¼, N½S½SW¼SE¼, SE¼SE¼;

Sec. 21, All.

Minerals Reservation—All Minerals

Upon publication of this Notice of Segregation in the Federal Register as provided in 43 CFR 2720.1-1(b), the mineral interests owned by the United States in the private lands covered by the application shall be segregated to the extent that they will not be subject to appropriation under the mining and mineral leasing laws. The segregative effect of the application shall terminate upon: Issuance of a patent or deed of such mineral interest; upon final rejection of the application; or two years from the date of publication of this notice, whichever occurs first.

Dated: March 28, 2001.
Denise P. Meridith,
State Director.

[FR Doc. 01-10910 Filed 5-1-01; 8:45 am]

BILLING CODE 4310-32-P